DEPARTMENT OF ENERGY

Federal Energy Regulatory Commission

[Docket No. CP02-25-001]

Copiah Storage, LLC; Notice of Intent To Prepare an Environmental Assessment for the Proposed 2007 Copiah Storage Project and Request for Comments on Environmental Issues

April 30, 2007.

The staff of the Federal Energy Regulatory Commission (FERC or Commission) will prepare an environmental assessment (EA) that will discuss the environmental impacts of the 2007 Copiah Storage Project involving construction and operation of facilities by Copiah Storage LLC. (Copiah) in Copiah County, Mississippi.¹ In this docket, Copiah requests an amendment to Commission Order CP02-25-000 (issued June 13, 2002) to expand previously certificated storage, compression and pipeline facilities that have not yet been constructed. This EA will supplement the previous EA and will only examine the additional facilities. This EA will be used by the Commission in its decision-making process to determine whether the project is in the public convenience and necessity. Please note that the scoping period will close on May 30, 2007.

¹ Copiah's application was filed with the Commission under section 7 of the Natural Gas Act.

If you are a landowner receiving this notice, you may be contacted by a pipeline company representative about the acquisition of an easement to construct, operate, and maintain the proposed facilities. The pipeline company would seek to negotiate a mutually acceptable agreement. However, if the project is approved by the Commission, that approval conveys with it the right of eminent domain. Therefore, if easement negotiations fail to produce an agreement, the pipeline company could initiate condemnation proceedings in accordance with state law.

A fact sheet prepared by the FERC entitled “An Interstate Natural Gas Facility On My Land? What Do I Need To Know?” was attached to the project notice that Copiah provided to landowners. This fact sheet addresses a number of typically asked questions, including the use of eminent domain and how to participate in the Commission's proceedings. It is available for viewing on the FERC Internet Web site (http://www.ferc.gov).

Summary of the Proposed Project

Copiah is proposing to expand its currently unbuilt certificated facilities ² in order to meet market demand for high deliverability storage services for the Gulf Coast and Northeast markets. Under their current certificate CP02-25-000, Copiah is authorized to construct:

² Copiah states that it did not build under the original certificate in 2002 due to a decrease in the electric generation market.

• A single 3.3 billion cubic feet (Bcf) capacity gas storage cavern extending approximately 5,500 feet below the ground surface within an underground salt dome (with an option for a second cavern);

• 13,350 horsepower (hp) compressor station to provide compression for injection and withdrawal of natural gas from the gas storage cavern;

• Approximately 635 feet of 20-inch-diameter pipeline from the compressor station to the storage cavern wellhead;

• Up to five well sites consisting of a freshwater withdrawal well and brine injection well at each site; and

• Appurtenant facilities consisting of 20-inch-diameter water supply and brine discharge pipelines, instrument and control equipment, and access roads.

Under this amendment, CP02-25-001, Copiah is seeking authorization to add a second storage cavern and to increase the size of the currently certificated underground salt cavern from 3.3 Bcf working capacity to 7.75 Bcf for a two-cavern storage facility with a total of 15.5 Bcf working gas capacity. The storage facility would have a peak withdrawal capacity of 1,300,000 dekatherms per day (Dth/d) and peak injection capacity of 650,000 Dth/d at full capacity. Copiah also seeks to increase the horsepower of the compressor station to 32,000 hp.

Also under this amendment, Copiah is seeking authorization to construct header facilities to connect to two natural gas pipelines:

• 1.55 miles of 24-inch-diameter pipeline connecting the storage facility to the Texas Eastern Transmission, LP (TETLP) pipeline.

• 13.43 miles of 24-inch-diameter pipeline connecting the storage facility to the proposed Southeast Supply Header (SESH) and Southern Natural Gas (SNG) pipeline.

• Appurtenant facilities consisting of two tap valves, two pig launcher and receivers, two meter and regulator stations, and access roads.

The Copiah Storage Facility would be located in Copiah, Mississippi. The location of the project facilities is shown in Appendix 1.³

³ The appendices referenced in this notice are not being printed in the Federal Register. Copies of all appendices, other than Appendix 1 (maps), are available on the Commission's Web site at the “eLibrary” link or from the Commission's Public Reference Room, 888 First Street, NE., Washington, DC 20426, or call (202) 502-8371. For instructions on connecting to eLibrary refer to the last page of this notice. Copies of the appendices were sent to all those receiving this notice in the mail.

Land Requirements for Construction

The Copiah Storage Facility would be located within an approximately 665-acre parcel of land owned by Copiah. Construction of these proposed facilities would require 86.70 acres of land. Following construction, 83.31 acres would be maintained as new aboveground facility sites and permanent rights-of-way. The remaining 3.39 acres would be returned to its previous land use. No facilities or activities are proposed for the remaining 578.30 acres.

Construction of the Copiah Header Facilities, the two connecting pipelines, would require 154.63 acres during construction and 55.64 acres during operation. The remaining 98.99 acres would be returned to its previous land use.

The EA Process

The National Environmental Policy Act (NEPA) requires the Commission to take into account the environmental impacts that could result from an action whenever it considers the issuance of a Certificate of Public Convenience and Necessity. NEPA also requires us to discover and address concerns the public may have about proposals. This process is referred to as “scoping”. The main goal of the scoping process is to focus the analysis in the EA on the important environmental issues. By this Notice of Intent, the Commission staff requests public comments on the scope of the issues to address in the EA. All comments received are considered during the preparation of the EA. State and local government representatives are encouraged to notify their constituents of this proposed action and encourage them to comment on their areas of concern.

In the EA we ⁴ will discuss impacts that could occur as a result of the construction and operation of the proposed project under these general headings:

⁴ ”We”, “us”, and “our” refer to the environmental staff of the Office of Energy Projects (OEP).

• Geology and soils.

• Land use.

• Water resources, fisheries, and wetlands.

• Cultural resources.

• Vegetation and wildlife.

• Air quality and noise.

• Endangered and threatened species.

• Hazardous waste.

• Public safety.

We will also evaluate reasonable alternatives to the proposed project or portions of the project, and make recommendations on how to lessen or avoid impacts on the various resource areas.

Our independent analysis of the issues will be in the EA. Depending on the comments received during the scoping process, the EA may be published and mailed to Federal, State, and local agencies, public interest groups, interested individuals, affected landowners, newspapers, libraries, and the Commission's official service list for this proceeding. A comment period will be allotted for review if the EA is published. We will consider all comments on the EA before we make our recommendations to the Commission.

To ensure your comments are considered, please carefully follow the instructions in the public participation section below.

Public Participation

You can make a difference by providing us with your specific comments or concerns about the project. By becoming a commentor, your concerns will be addressed in the EA and considered by the Commission. You should focus on the potential environmental effects of the proposal, alternatives to the proposal, and measures to avoid or lessen environmental impact. The more specific your comments, the more useful they will be. Please carefully follow these instructions to ensure that your comments are received in time and properly recorded:

• Send an original and two copies of your letter to: Kimberly D. Bose, Secretary, Federal Energy Regulatory Commission, 888 First St., NE., Room 1A, Washington, DC 20426.

• Label one copy of the comments for the attention of Gas Branch 3.

• Reference Docket No. CP02-25-001.

• Mail your comments so that they will be received in Washington, DC on or before May 30, 2007.

The Commission strongly encourages electronic filing of any comments or interventions or protests to this proceeding. See 18 CFR 385.2001(a)(1)(iii) and the instructions on the Commission's Web site at http://www.ferc.gov under the “e-Filing” link and the link to the User's Guide. Before you can file comments you will need to create a free account which can be created on-line.

We may mail the EA for comment. If you are interested in receiving it, please return the Information Request (Appendix 3). If you do not return the Information Request, you will be taken off the mailing list.

Becoming an Intervenor

In addition to involvement in the EA scoping process, you may want to become an official party to the proceeding, or “intervenor”. To become an intervenor you must file a motion to intervene according to Rule 214 of the Commission's Rules of Practice and Procedure (18 CFR 385.214). Intervenors have the right to seek rehearing of the Commission's decision. Motions to Intervene should be electronically submitted using the Commission's eFiling system at http://www.ferc.gov. Persons without Internet access should send an original and 14 copies of their motion to the Secretary of the Commission at the address indicated previously. Persons filing Motions to Intervene on or before the comment deadline indicated above must send a copy of the motion to the Applicant. All filings, including late interventions, submitted after the comment deadline must be served on the Applicant and all other intervenors identified on the Commission's service list for this proceeding. Persons on the service list with email addresses may be served electronically; others must be served a hard copy of the filing.

Affected landowners and parties with environmental concerns may be granted intervenor status upon showing good cause by stating that they have a clear and direct interest in this proceeding which would not be adequately represented by any other parties. You do not need intervenor status to have your environmental comments considered.

Environmental Mailing List

An effort is being made to send this notice to all individuals, organizations, and government entities interested in and/or potentially affected by the proposed project. This includes all landowners who are potential right-of-way grantors, whose property may be used temporarily for project purposes, or who own homes within distances defined in the Commission's regulations of certain aboveground facilities. By this notice we are also asking governmental agencies, especially those in Appendix 2, to express their interest in becoming cooperating agencies for the preparation of the EA.

Additional Information

Additional information about the project is available from the Commission's Office of External Affairs, at 1-866-208-FERC or on the FERC Internet Web site (http://www.ferc.gov) using the eLibrary link. Click on the eLibrary link, click on “General Search” and enter the docket number excluding the last three digits in the Docket Number field. Be sure you have selected an appropriate date range. For assistance, please contact FERC Online Support at FercOnlineSupport@ferc.gov or toll free at 1-866-208-3676, or for TTY, contact (202) 502-8659. The eLibrary link also provides access to the texts of formal documents issued by the Commission, such as orders, notices, and rulemakings.

In addition, the Commission now offers a free service called eSubscription which allows you to keep track of all formal issuances and submittals in specific dockets. This can reduce the amount of time you spend researching proceedings by automatically providing you with notification of these filings, document summaries and direct links to the documents. Go to http://www.ferc.gov/esubscribenow.htm.

Finally, public meetings or site visits will be posted on the Commission's calendar located at http://www.ferc.gov/EventCalendar/EventsList.aspx along with other related information.

Philis J. Posey,
Deputy Secretary.

[FR Doc. E7-8540 Filed 5-3-07; 8:45 am]

BILLING CODE 6717-01-P